DEPARTMENT OF ENERGY

Federal Energy Regulatory Commission

Combined Notice of Filings #1

January 24, 2006.

Take notice that the Commission received the following electric rate filings:

Docket Numbers: ER06-498-000.

Applicants: Idaho Power Company.

Description: Idaho Power Co. requests permission to withdraw its 1/13/06 compliance filing and replace with new tariffs sheets in compliance with Order 661-A.

Filed Date: 01/18/2006.

Accession Number: 20060123-0008.

Comment Date: 5 p.m. Eastern Time on Wednesday, February 8, 2006.

Docket Numbers: ER06-499-000.

Applicants: PJM Interconnection L.L.C.

Description: PJM Interconnection, LLC submits revisions to the PJM OATT to comply with Order 661 and 661-A.

Filed Date: 01/18/2006.

Accession Number: 20060123-0009.

Comment Date: 5 p.m. Eastern Time on Wednesday, February 8, 2006.

Docket Numbers: ER06-500-000.

Applicants: Southern California Edison Company.

Description: Southern California Edison Co.'s revisions to the Wholesale Distribution Access Tariff, which includes its approved WDAT Large Generator Interconnection Procedures in compliance with Order 661-A.

Filed Date: 01/18/2006.

Accession Number: 20060123-0010.

Comment Date: 5 p.m. Eastern Time on Wednesday, February 8, 2006.

Docket Numbers: ER06-501-000.

Applicants: Consolidated Edison Company of NY, Inc.

Description: Consolidated Edison Company of New York, Inc. submits notice of the termination of its FERC Electric Rate Schedule No. 112 with New York State Electric & Gas Corp.

Filed Date: 01/18/2006.

Accession Number: 20060123-0011.

Comment Date: 5 p.m. Eastern Time on Wednesday, February 8, 2006.

Docket Numbers: ER06-502-000.

Applicants: Aquila, Inc.

Description: Aquila, Inc. on behalf of its four operating divisions Aquila Networks-MPS et al. submits revised tariff sheets for each of Aquila's OATT.

Filed Date: 01/18/2006.

Accession Number: 20060123-0012.

Comment Date: 5 p.m. Eastern Time on Wednesday, February 8, 2006.

Docket Numbers: ER06-503-000.

Applicants: Puget Sound Energy, Inc.

Description: Puget Sound Energy Inc. submits pro forma revisions to Annex A, in compliance with Order 661 and 661-A.

Filed Date: 01/18/2006.

Accession Number: 20060123-0013.

Comment Date: 5 p.m. Eastern Time on Wednesday, February 8, 2006.

Docket Numbers: ER06-504-000.

Applicants: Black Hills Power, Inc.

Description: Black Hills Power Inc., on behalf of itself, Basin Electric Power Cooperative et al. submits First Revised Sheet No. 17 et al., Original Volume No. 1 of the OATT in compliance with Order 661.

Filed Date: 01/18/2006.

Accession Number: 20060123-0014.

Comment Date: 5 p.m. Eastern Time on Wednesday, February 8, 2006.

Docket Numbers: ER06-505-000.

Applicants: Entergy Services, Inc.

Description: Entergy Services, Inc. on behalf of Entergy Operating Companies submits amended Original Sheet 352J et al. that integrate the additional appendices and revisions to those appendices etc., pursuant to Order 661 & 661-A.

Filed Date: 01/18/2006.

Accession Number: 20060123-0034.

Comment Date: 5 p.m. Eastern Time on Wednesday, February 8, 2006.

Docket Numbers: ER06-506-000.

Applicants: New York Independent System Operator, Inc., New York Transmission Owners.

Description: The New York Independent System Operator, Inc., and the New York Transmission Owners submit a joint compliance filing in Order 661.

Filed Date: 01/18/2006.

Accession Number: 20060123-0017.

Comment Date: 5 p.m. Eastern Time on Wednesday, February 8, 2006.

Docket Numbers: ER06-507-000.

Applicants: ISO New England Inc.

Description: ISO New England, Inc., et al., submits 1st Revised Sheet 5104 et al. of the ISO OATT in compliance with Order 661.

Filed Date: 01/18/2006.

Accession Number: 20060123-0018.

Comment Date: 5 p.m. Eastern Time on Wednesday, February 8, 2006.

Docket Numbers: ER06-508-000.

Applicants: Southern Company Services, Inc.

Description: Alabama Power Co. & Georgia Power Co. et al., submit revised tariff sheets pursuant to FERC's Order 2006-A and Order 661-A.

Filed Date: 01/18/2006.

Accession Number: 20060123-0019.

Comment Date: 5 p.m. Eastern Time on Wednesday, February 8, 2006.

Docket Numbers: ER06-509-000.

Applicants: PJM Interconnection, L.L.C.

Description: PJM Interconnection LLC submits an unexecuted interconnection service agreement among PJM, Boone Heritage Wind Farm LLC, and Commonwealth Edison Co.

Filed Date: 01/18/2006.

Accession Number: 20060123-0016.

Comment Date: 5 p.m. Eastern Time on Wednesday, February 8, 2006.

Docket Numbers: ER06-510-000.

Applicants: Energy Endeavors LLC.

Description: Energy Endeavors LC submits its Petition for Acceptance of Initial Rate Schedule, Waivers and Blanket Authority.

Filed Date: 01/18/2006.

Accession Number: 20060123-0032.

Comment Date: 5 p.m. Eastern Time on Wednesday, February 8, 2006.

Docket Numbers: ER06-511-000.

Applicants: Maine Public Service Company.

Description: Maine Public Service Co. submits revisions to its OATT revising its Standard Large Generator Interconnection Agreement etc., in compliance with Order 661 and 661-A.

Filed Date: 01/18/2006.

Accession Number: 20060123-0030.

Comment Date: 5 p.m. Eastern Time on Wednesday, February 8, 2006.

Docket Numbers: ER06-512-000.

Applicants: Southwest Power Pool, Inc.

Description: Southwest Power Pool, Inc., submits changes to its OATT, revising its Standard Large Generator Interconnection Agreement etc., in compliance with Order 661 and 661-A.

Filed Date: 01/18/2006.

Accession Number: 20060123-0029.

Comment Date: 5 p.m. Eastern Time on Wednesday, February 8, 2006.

Docket Numbers: ER06-513-000.

Applicants: NorthWestern Corporation.

Description: NorthWestern Corp., submits Original Sheets 293-298, to its OATT in compliance with Order 661 and 661-A.

Filed Date: 01/18/2006.

Accession Number: 20060123-0028.

Comment Date: 5 p.m. Eastern Time on Wednesday, February 8, 2006.

Docket Numbers: ER06-514-000.

Applicants: Ohio Valley Electric Corporation.

Description: Ohio Valley Electric Corp., submits new and First Revised Sheet 164 et al. to its OATT, adding to the Large Generator Interconnection Procedures and Agreement without modification.

Filed Date: 01/18/2006.

Accession Number: 20060123-0027.

Comment Date: 5 p.m. Eastern Time on Wednesday, February 8, 2006.

Docket Numbers: ER06-524-000.

Applicants: California Independent System Operator Corporation.

Description: California Independent System Operator Corp submits an amended long-term Standard Large Generator Interconnection Agreement in compliance with Order 661 and 661-A.

Filed Date: 01/18/2006.

Accession Number: 20060124-0078

Comment Date: 5 p.m. Eastern Time on Wednesday, February 8, 2006.

Docket Numbers: ER06-526-000.

Applicants: Florida Power & Light Company.

Description: Florida Power & Light Co. submits Tariff Sheet 408-408D to incorporate the new rules into its OATT in compliance with Order 661 & 661-A.

Filed Date: 01/18/2006.

Accession Number: 20060124-0080.

Comment Date: 5 p.m. Eastern Time on Wednesday, February 8, 2006.

Docket Numbers: ER97-512-003.

Applicants: A'Lones Group, Inc.

Description: Tri Annual Market Analysis of A'Lones Group, Inc. submits updated market power analysis.

Filed Date: 12/02/2005.

Accession Number: 20051202-5003.

Comment Date: 5 p.m. Eastern Time on Friday, February 3, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-1246 Filed 1-31-06; 8:45 am]

BILLING CODE 6717-01-P